FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ABC Logistics, Inc. (NVO), 1833 North 105th Street, Suite 306, Seattle, WA 98133. Officers: Mohamed Meselhy, Vice President (QI), Alexander Mednikov, President. Application Type: New NVO License.

Allround Forwarding Co. Inc. (NVO & OFF), 134 West 26th Street, New York, NY 10001. Officers: Hatto H. Dachgruber, President (QI), John Wellock, Vice President. Application Type: License Transfer to Allround Forwarding Holding, Inc.

Alpha Total Solutions Inc. dba T T Logistics (NVO), 18747 S. Laurel Park Road, Rancho Dominguez, CA 90220. Officer: Tino M. Tsai, President (QI). Application Type: New NVO License.

American International Shipping Company (NVO & OFF), 7 Emily Road, Manalapan, NJ 07726. Officers: Sushma Sharma, President (QI). Rajesh Sood, Secretary. Application Type: New NVO & OFF License.

ANC Express Inc. (NVO), 144-29 156th Street, Jamaica, NY 11434. Officer: Sung (a.k.a. Sam) S. Hong, President (QI). Application Type: New NVO License.

Blue Carrier Line Inc. (NVO & OFF), 19920 Foxwood Forest Blvd., Suite 401, Humble, TX 77338. Officer: Mary (Mickey) McKenna-O'Brien, President (QI). Application Type: License Transfer to Blue Carrier Line Inc. (a Texas Corporation) & add OFF Service.

CAP Worldwide, Inc. (NVO & OFF), 3226 Lodestar Road, Building 7, Suite 200, Houston, TX 77032. Officers: Dennis Hiatt, Treasurer (QI), Rebecca J. Kersting, President. Application Type: QI Change.

CIL Freight Inc. (NVO & OFF), 1990 Lakeside Parkway, Suite 300, Tucker, GA 30084. Officers: Fang (Mizzy) M. Doong, Vice President (QI), Mandi Fang, President. Application Type: QI Change.

Consolcargo USA Inc dba CSC Consolidators (NVO & OFF), 8201 NW 56th Street, Miami, FL 33166. Officers: Rocio D. Gamboa, Secretary (QI), Carlos A. Sanchez, Managing Member. Application Type: License Transfer to Overseas Group USA, LLC dba CSC Consol, USA & Add OFF Service.

Contrans Cargo Inc. (NVO), 831 S. Lemon Avenue, Unit A11F, Walnut, CA 91789. Officers: Philip Fut Chung Yuen (a.k.a. Philip) Yuen, COO (QI), Xiaojun Wang, President. Application Type: QI Change.

East-West Logistics, Inc. (NVO), 14821 Northam Street, La Mirada, CA 90638. Officers: Cheng Lu, CFO (QI), Sherry Wang, President, Application Type: QI Change.

Equinox Global Forwarding LLC (OFF), 1620 Vauxhall Road, Suite 323, Union, NJ 07083. Officers: Xavier Vanoni, Managing Member (QI), Kathryn Vanoni, Member. Application Type: New OFF.

Global Partner Alliance, Inc. (NVO), 989 Aec Drive, Wood Dale, IL 60191. Officer: Jakub Ligeza, President (QI). Application Type: LicenseTransfer to Tripadam Logistics, Inc.

KJW-CHB, LLC (OFF), 765 North Route 83, Suite 114, Bensenville, IL 60106. Officer: Keh J. Wu, President (QI). Application Type: Add Trade Name, KCW-Logistics.

Majestic Superior Logistics Inc (NVO), 3100 S 176th Street, Suite 100, Seatac, WA 98188. Officers: Martin Hung Ching Su, Vice President (QI), Choo Lim NG, President. Application Type: New NVO License.

Nippon Concept America, LLC (OFF), 2203 Timberloch Place, Suite 218D, The Woodlands, TX 77380. Officers: John R. Johnson, Special Manager (QI), Bertus Penters, Manager. Application Type: QI Change.

OceanMax Logistics LLC (OFF), 3566 Old Chamblee Tucker Road, #6, Atlanta, GA 30340. Officers: Dhaval Virpariya, Chief Executive Manager (QI), Kajal Changela, Member, Application Type: New OFF License.

Radiant Overseas Express, Inc. (NVO), 2705 S. Diamond Bar Blvd., Suite 200, Diamond Bar, CA 91765. Officer: Chih Hua (a.k.a. Elton) Chang, CEO (QI), Application Type: QI Change.

Safe Transport LLC (NVO & OFF), 533 Del Monte Avenue, South San Francisco, CA 94080. Officers: Raul B. Garcia, Member (QI), Blesilda O. Garica, Member. Application Type: New NVO & OFF License.

South Cargo LLC (NVO & OFF), 6708 NW 82th Avenue, Miami, FL 33166. Officers: Ana O. Guerrero, Manager (QI), Jesus Aznar, Managing Member. Application Type: New NVO & OFF License.

The Relocation Freight Corporation of America (OFF), Two Corporate Drive, Suite 440, Shelton, CT 06484. Officers: Susan Dumire, Assistant Vice President (QI), Richard Schwartz, President, Application Type: QI Change.

By the Commission.
Dated: March 29, 2013.
Rachel E. Dickon,
Assistant Secretary.

[FR Doc. 2013-07728 Filed 4-2-13; 8:45 am]

BILLING CODE 6730-01-P